DEPARTMENT OF TRANSPORTATION

Federal Aviation Administration

14 CFR Part 71

[Docket No. FAA-2014-0295; Airspace Docket No. 14-AGL-6]

RIN 2120-AA66

Proposed Modification, Revocation, and Establishment of Multiple Air Traffic Service (ATS) Routes; North Central and Northeast United States

AGENCY: Federal Aviation Administration (FAA), DOT.

ACTION: Notice of proposed rulemaking (NPRM).

SUMMARY: This action proposes to amend, remove, and establish multiple jet routes, high altitude and low altitude Area Navigation (RNAV) routes (Q- and T-routes), and VHF Omnidirectional Range (VOR) Federal airways in the north central and northeast United States to reflect and accommodate route changes being made in Canadian airspace as part of Canada's Winsor-Toronto-Montreal (WTM) airspace redesign project. This action also would amend or remove ATS routes with minimal or no use.

DATES: Comments must be received on or before August 8, 2014.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2014-0295 and Airspace Docket No. 14-AGL-6 at the beginning of your comments. You may also submit comments through the Internet at http://www.regulations.gov.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2014-0295 and Airspace Docket No. 14-AGL-6) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2014-0295 and Airspace Docket No. 14-AGL-6.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the Internet at http://www.regulations.gov.

You may review the public docket containing the proposal, any comments received and any final disposition in person in the Dockets Office (see ADDRESSES section for address and phone number) between 9:00 a.m. and 5:00 p.m., Monday through Friday, except Federal holidays. An informal docket may also be examined during normal business hours at the office of the Central Service Center, Operations Support Group, Federal Aviation Administration, 2601 Meacham Blvd., Fort Worth, TX 76137.

Persons interested in being placed on a mailing list for future NPRMs should contact the FAA's Office of Rulemaking, (202) 267-9677, for a copy of Advisory Circular No. 11-2A, Notice of Proposed Rulemaking Distribution System, which describes the application procedure.

Background

NAV CANADA, which operates Canada's civil air navigation service, is continuing to implement various changes to Canada's instrument flight rules (IFR) navigation infrastructure to enhance the efficiency of operations by taking advantage of performance based navigation and modern avionic capabilities. The changes being implemented by NAV CANADA affect parts of the descriptions for certain U.S. jet routes and VOR Federal airways that extend into or through Canadian airspace. As a result, amendments are required to these routes so that they match the changes being made on the Canadian side of the border. Additionally, the FAA is transitioning from a legacy ground-based network of navigation aids to a network of ATS routes between major city pairs defined by RNAV waypoints to replace some of the current jet routes and VOR Federal airways. Changes to certain existing RNAV routes, as well as the establishment of new U.S. and Canadian RNAV routes within U.S. airspace, are required to accommodate expanding Canadian routes into U.S. airspace to further promote the safe and efficient management of aircraft operations across the U.S./Canadian border to major terminal airspace areas.

The Proposal

The FAA is proposing an amendment to Title 14, Code of Federal Regulations (14 CFR) part 71 to modify VOR Federal airways V-84, V-91, V-104, V-203, and V-423; modify jet routes J-16, J-29, J-43, J-53, J-61, J-78, J-82, J-91, J-94, J-95, J-106, J-109, J-145, J-220, J-547, and J-548; and modify RNAV routes Q-29, Q-39, Q-67, Q-69, Q-71, Q-138, Q-140, Q-438, and Q-440. In addition, this action would remove Air Traffic Service (ATS) routes V-337, J-38, J-63, J-185, J-488, J-500, J-509, J-522, J-524, J-531, J-545, J-552, J-559, J-560, J-564, J-566, J-567, J-581, J-586, J-587, J-588, J-594, J-595, Q-501, Q-502, Q-504, and Q-505. Lastly, this action proposes to establish U.S. RNAV routes Q-82, Q-84, Q-103, and Q-145, and Canadian RNAV routes Q-806, Q-812, Q-816, Q-818, Q-822, Q-824, Q-844, Q-848, Q-905, Q-907, Q-913, Q-917, Q-923, Q-935, Q-937, Q-947, Q-951, T-608, T-616, and T-781. The proposed VOR Federal airway, jet route, and RNAV route establishments and amendments are necessary to support changes Canada initiated for routes into and out of the Winsor, Toronto, and Montreal areas within Canada; the FAA's expansion of RNAV routes within the National Airspace System (NAS); and safe and efficient across border connectivity.

The proposed VOR Federal airway modifications would remove route segments that extend to or into Canadian airspace and are outlined below.

V-84: The route segment from London, ON, Canada, to Buffalo, NY, would be removed.

V-91: The route segment from Burlington, VT, to the intersection of the Plattsburgh, NY, 348° and St. Jean, PQ, Canada, 226° radials would be removed.

V-104: The route segment from the intersection of the Ottawa, ON, Canada, 127° and Massena, NY, 300° radials to Burlington, VT, would be removed.

V-203: The route segment from Massena, NY, to the intersection of the Massena, NY, 047° and St. Jean, PQ, Canada, 270° radials would be removed.

V-423: The route segment from Syracuse, NY, to the intersection of the Watertown, NY, 018° and Massena, NY, 270° radials would be removed.

The proposed jet route modifications would remove route segments that extend to or into Canadian airspace and are outlined below.

J-16: The route segment east of London, ON, Canada, to Boston, MA, would be removed.

J-29: The route segment northeast of Pocket City, IN, to Halifax, Canada, would be removed.

J-43: The route segment north of Carleton, MI, to Sault Ste Marie, MI, would be removed.

J-53: The route segment north of Pulaski, VA, to Ellwood City, PA, would be removed.

J-61: The route segment northwest of Philipsburg, PA, to Buffalo, NY, would be removed.

J-78: The route segment east of Charleston, WV, to Milton, PA, would be removed.

J-82: The route segment east of Goshen, IN, to Albany, NY, would be removed.

J-91: The route segment north of Henderson, WV, to Bellaire, OH, would be removed.

J-94: The route segment east of London, ON, Canada, to Boston, MA, would be removed.

J-95: The route segment northwest of Binghamton, NY, to the intersection of the Buffalo, NY, 316° and Dunkirk, NY, 012° radials would be removed.

J-106: The route segment east of Gopher, MN, to Jamestown, NY, would be removed.

J-109: The route segment north of Linden, VA, to Buffalo, NY, would be removed.

J-145: The route segment north of Charleston, WV, to Ellwood City, PA, would be removed.

J-220: The route segment northwest of Stonyfork, PA, to Buffalo, NY, would be removed.

J-547: The route segment east of Flint, MI, to Kennebunk, ME, would be removed.

J-548: The route segment northeast of Traverse City, MI, to Timmins, ON, Canada, would be removed.

The proposed RNAV route modifications are outlined below.

Q-29: The route segment north of the SIDAE waypoint (WP) to Pocket City, IN, would be removed and the remaining route would be extended by over 1,000 nautical miles (NM) northeast to the DUVOK, Canada, WP to add connectivity to many northeastern airports and the North Atlantic routes.

Q-39: The route would be modified by moving the route termination point west approximately 5 NM from the TARCI, WV, fix to the WISTA, WV, WP to connect to the existing RNAV route structure and other RNAV routes proposed by this action. This modification would serve aircraft landing at the Port Columbus, OH, Cleveland, OH, and Detroit, MI, airports.

Q-67: The route segment northeast of the TONIO, KY, fix to Henderson, WV, would be removed and the remaining route would be extended north approximately 104 NM to the COLTZ, OH, fix to provide RNAV routing for Atlanta, GA, departures and Cleveland, OH, and Detroit, MI, arrivals.

Q-69: The route segment north of the EWESS, WV, WP to Elkins, WV, would be removed and the remaining route would be extended north to the RICCS, WV, fix to connect to other RNAV routes proposed by this action. This modification would continue supporting Charlotte, NC, departures to the Pittsburgh, PA; Buffalo, NY; and Toronto, ON, Canada, airports, as well as Toronto, ON, Canada, departures to Charlotte, NC.

Q-71: The route would be extended approximately 173 NM north to the Philipsburg, PA, VHF Omnidirectional Range Tactical Air Navigation (VORTAC) navigation aid (NAVAID) to support Atlanta, GA, departures to the northeast and overseas; Washington, DC, departures to the southwest; as well as overseas arrivals to Atlanta, GA, and New York, NY.

Q-138: The route segment east of the MOTLY, SD, WP to Aberdeen, SD, would be removed and the remaining route would be extended approximately 591 NM east to the Sault Ste Marie, MI, VOR/Distance Measuring Equipment (VOR/DME) NAVAID to support San Francisco, CA, departures to the Chicago, IL, New York, NY, Boston, MA, and Toronto, ON, Canada, airports. It would also support New York area departures to Portland, OR, Seattle, WA, and Northern California airports.

Q-140: The route would be extended approximately 683 NM east to the YODAA, NY, fix to support Seattle, WA, departures to New York, NY, and the New England area airports.

Q-438: The route would be modified by removing the Flint, MI, VORTAC from the route description.

Q-440: The route would be modified by removing the Flint, MI, VORTAC from the route description and extending the route approximately 384 NM west to begin at the HUFFR, MN, WP.

The proposed U.S. RNAV routes to be established are outlined below.

Q-82: The route would be established from the WWSHR, OH, WP to the PONCT, NY, WP to support aircraft departing New York and New England airports landing at Chicago, IL, airports and transiting southwest, as well as support aircraft transiting northeast bound landing in the New England area.

Q-84: The route would be established from the Jamestown, NY, VOR/DME to the Cambridge, NY, VOR/DME to support aircraft departing the New England area to the Chicago Midway, IL, and Cleveland, OH, airports.

Q-103: The route would be established from the Pulaski, VA, VORTAC to the AIRRA, PA, WP to tie into a new RNAV departure procedure being established for the Toronto Pearson International Airport, ON, Canada, and other RNAV routes proposed by this action for aircraft flying to Florida, Cuba, and South America airports.

Q-145: The route would be established from the KONGO, KY, fix to the FOXEE, PA, WP for aircraft departures from the Toronto Pearson International Airport, ON, Canada, and from northeastern U.S. airports to Atlanta, GA, and Charlotte, NC, airports.

As noted above, this action proposes to accommodate the extension of nine existing Canadian high-altitude RNAV routes into and through U.S. airspace. The proposed Canadian RNAV route extensions that would be established within the NAS are outlined below.

Q-806: The route extension would be established from the MEKSO, Canada, WP east through U.S. airspace to the VOGET, Canada, WP to support Detroit, MI, arrivals from Montreal and Toronto, Canada, and overseas locations.

Q-824: The route extension would be established from the Flint, MI, VORTAC northeast into Canadian airspace to the TAGUM, Canada, WP to support Chicago O'Hare International Airport, IL, arrivals from the North Atlantic tracks

Q-844: The route extension would be established from the VIBRU, Canada, WP south to the Syracuse, NY, VORTAC to connect with other RNAV routes in the Syracuse, NY, area proposed by this action.

Q-848: The route extension would be established from the SLLAP, MI, WP east to the KARIT, Canada, WP and ultimately on to the LETAK, Canada, WP on Q-848 to support international flights to and from Europe and the Chicago, IL, and Detroit, MI, airports.

Q-905: The route extension would be established from the HOCKE, MI, WP northeast to the SIKBO, Canada, WP to support eastbound traffic to Montreal, Canada, and overseas airports.

Q-907: The route extension would be established from the POSTS, MI, fix northeast to the DERLO, Canada, WP and ultimately on to the AGNOB, Canada, WP on Q-907 and from the ADVIK, Canada, WP east through U.S. airspace to the MIILS, Canada, WP to support international departures from the Chicago O'Hare, IL, airport.

Q-913: The route extension would be established from the RAKAM, Canada, WP, which is being realigned to the DEDKI, Canada, WP on Q-913, northeast to the TOPPS, ME, fix to support across border connectivity to the U.S. ATS route structure northeast of Bangor, ME.

Q-947: The route extension would be established from the REVEN, ME, WP northeast to the DUVOK, Canada, WP to support Canada's WTM airspace redesign project.

Q-951: The route extension would be established from the POSTS, MI, fix northeast through Canadian and U.S. airspace to the PUXOP, Canada, WP, to support Canada's WTM airspace redesign project.

This action also proposes to establish eight new Canadian high-altitude RNAV routes. The new Canadian high-altitude RNAV routes proposed to be established within the NAS are outlined below.

Q-812: The route would be established from the TIMMR, ND, fix east through Canadian airspace to the GAYEL, NY, fix to support John F. Kennedy International Airport, NY, departure offloads and New York metropolitan area arrivals on a swap route basis.

Q-816: The route would be established from the HOCKE, MI, WP east through Canadian airspace to the HANAA, NY, WP to support westbound departures from Boston, MA, and other New England airports.

Q-818: The route would be established from the Flint, MI, VORTAC east through Canadian airspace to the GAYEL, NY, fix to also support westbound departures from New York area airports through Canadian airspace.

Q-822: The route would be established from the Flint, MI, VORTAC east through Canadian and U.S. airspace to the TANGU, Canada, WP to support Chicago O'Hare, IL, arrivals from the Halifax, Canada, and New England areas.

Q-917: The route would be established from Sault Ste Marie, MI, VOR/DME southeast through Canadian airspace to the WOZEE, NY, WP in the Buffalo, NY, area.

Q-923: The route would be established from the HOCKE, MI, WP northeast into Canadian airspace to the KARIT, Canada, WP to support Detroit, MI, international departures and arrivals.

Q-935: The route would be established from the MONEE, MI, fix east through Canadian airspace to the Boston, MA, VOR/DME.

Q-937: The route would be established from the TULEG, Canada, WP southeast into U.S. airspace to the GASSY, NY, fix extending into U.S. airspace west of Glens Falls, NY.

This action also proposes to establish three new Canadian low-altitude RNAV routes. The new Canadian low-altitude RNAV routes proposed to be established within the NAS are outlined below.

T-608: The route would be established from the WOZEE, NY, WP west through Canadian airspace to the HOCKE, MI, WP.

T-616: The route would be established from the Flint, MI, VORTAC east into Canadian airspace to the LEPOS, Canada, WP.

T-781: The route would be established from the Flint, MI, VORTAC east into Canadian airspace to the AXOBU, Canada, fix.

Finally, this action would remove VOR Federal airway V-337; jet routes J-38, J-63, J-185, J-488, J-500, J-509, J-522, J-524, J-531, J-545, J-552, J-559, J-560, J-564, J-566, J-567, J-581, J-586, J-587, J-588, J-594, J-595; and RNAV routes Q-501, Q-502, Q-504, and Q-505. These ATS routes are either not required in support of Canada's airspace redesign or the expansion of Canadian RNAV routes into U.S. airspace, have minimal or no documented use, or would be replaced by the new RNAV routes proposed.

The navigation aid radials cited in the proposed route descriptions, below, are unchanged from the existing routes and stated relative to True north.

Jet routes are published in paragraph 2004, high altitude United States RNAV routes are published in paragraph 2006, and domestic VOR Federal airways are published in paragraph 6010(a) of FAA Order 7400.9X dated August 7, 2013, and effective September 15, 2013, which is incorporated by reference in 14 CFR 71.1. The jet routes, high altitude United States RNAV routes (Q-routes), and VOR Federal airways listed in this document would be subsequently published in the Order. Additionally, this action would publish high altitude Canadian RNAV routes in paragraph 2007 (new) and low altitude Canadian RNAV routes in paragraph 6013 (new) of FAA Order 7400.9X dated August 7, 2013, and effective September 15, 2013, which is incorporated by reference in 14 CFR 71.1.

The FAA has determined that this proposed regulation only involves an established body of technical regulations for which frequent and routine amendments are necessary to keep them operationally current. Therefore, this proposed regulation: (1) Is not a “significant regulatory action” under Executive Order 12866; (2) is not a “significant rule” under Department of

Transportation (DOT) Regulatory Policies and Procedures (44 FR 11034; February 26, 1979); and (3) does not warrant preparation of a regulatory evaluation as the anticipated impact is so minimal. Since this is a routine matter that would only affect air traffic procedures and air navigation, it is certified that this proposed rule, when promulgated, would not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the NAS.

Environmental Review

This proposal will be subject to an environmental analysis in accordance with FAA Order 1050.1E, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9X, Airspace Designations and Reporting Points, dated August 7, 2013 and effective September 15, 2013, is amended as follows:

Paragraph 2004 Jet routes

* * * * *

J-16 (Amended)

From Battle Ground, WA; Pendleton, OR; Whitehall, MT; Billings, MT; Dupree, SD; Sioux Falls, SD; Mason City, IA; to Badger, WI.

* * * * *

J-29 (Amended)

From INT of United States/Mexican Border and Corpus Christi, TX, 229° radial; Corpus Christi; Palacios, TX; Humble, TX; El Dorado, AR; Memphis, TN; to Pocket City, IN.

* * * * *

J-38 (Removed)

* * * * *

J-43 (Amended)

From Dolphin, FL; LaBelle, FL; St. Petersburg, FL; Seminole, FL; Atlanta, GA; Volunteer, TN; Falmouth, KY; Rosewood, OH; to Carleton, MI.

* * * * *

J-53 (Amended)

From Dolphin, FL; INT Dolphin 354° and Pahokee, FL, 157° radials; Pahokee; INT Pahokee 342° and Orlando, FL, 162° radials; Orlando; Craig, FL; INT Craig 347° and Colliers, SC, 174° radials; Colliers; Spartanburg, SC; to Pulaski, VA.

* * * * *

J-61 (Amended)

From INT Dixon NDB, NC, 023° and Nottingham, MD, 174° radials; Nottingham; Westminster, MD; to Philipsburg, PA.

* * * * *

J-63 (Removed)

* * * * *

J-78 (Amended)

From Los Angeles, CA; Seal Beach, CA; Thermal, CA; Parker, CA; Drake, AZ; Zuni, AZ; Albuquerque, NM; Tucumcari, NM; Panhandle, TX; Will Rogers, OK; Tulsa, OK; Farmington, MO; Pocket City, IN; Louisville, KY; to Charleston, WV.

* * * * *

J-82 (Amended)

From Battle Ground, WA; Donnelly, ID; Dubois, ID; Crazy Woman, WY; Rapid City, SD; Sioux Falls, SD; Fort Dodge, IA; Dubuque, IA; INT Dubuque 095° and Joliet, IL, 317° radials; Joliet; to Goshen, IN.

* * * * *

J-91 (Amended)

From INT Orlando, FL, 274° and Cross City, FL, 133° radials; Cross City; INT Cross City 338° and Atlanta, GA, 169° radials; Atlanta; Volunteer, TN; to Henderson, WV.

* * * * *

J-94 (Amended)

From Oakland, CA; Manteca, CA; INT Manteca 047° and Mustang, NV, 208° radials; Mustang; Lovelock, NV; Battle Mountain, NV; Lucin, UT; Rock Springs, WY; Scottsbluff, NE; O'Neill, NE; Fort Dodge, IA; Dubuque, IA; Northbrook, IL; Pullman, MI; to Flint, MI.

J-95 (Amended)

From Deer Park, NY; INT Deer Park 308° and Binghamton, NY, 119° radials; to Binghamton.

* * * * *

J-106 (Amended)

From Jamestown, NY; Wilkes-Barre, PA; Stillwater, NJ; to LaGuardia, NY.

* * * * *

J-109 (Amended)

From Wilmington, NC; Flat Rock, VA; to Linden, VA.

* * * * *

J-145 (Amended)

From Foothills, SC; to Charleston, WV.

* * * * *

J-185 (Removed)

* * * * *

J-220 (Amended)

From Armel, VA; INT Armel 001° and Stonyfork, PA, 181° radials; to Stonyfork.

* * * * *

J-488 (Removed)

J-500 (Removed)

* * * * *

J-509 (Removed)

* * * * *

J-522 (Removed)

* * * * *

J-524 (Removed)

* * * * *

J-531 (Removed)

* * * * *

J-545 (Removed)

* * * * *

J-547 (Amended)

From Northbrook, IL; Pullman, MI; to Flint, MI.

J-548 (Amended)

From Pullman, MI; to Traverse City, MI.

* * * * *

J-552 (Removed)

* * * * *

J-559 (Removed)

J-560 (Removed)

* * * * *

J-564 (Removed)

J-566 (Removed)

J-567 (Removed)

* * * * *

J-581 (Removed)

* * * * *

J-586 (Removed)

J-587 (Removed)

J-588 (Removed)

* * * * *

J-594 (Removed)

J-595 (Removed)

* * * * *

Paragraph 2006 United States Area Navigation Routes

* * * * *

Q-29 HARES, LA to DUVOK, Canada (Amended)
HARES, LA | WP | (Lat. 33°00′00.00″ N., long. 091°44′00.00″ W.)
BAKRE, MS | WP | (Lat. 33°53′45.85″ N., long. 090°58′04.75″ W.)
Memphis, TN (MEM) | VORTAC | (Lat. 35°00′54.42″ N., long. 089°58′59.55″ W.)
OMDUE, TN | WP | (Lat. 36°07′47.32″ N., long. 088°58′11.49″ W.)
SIDAE, KY | WP | (Lat. 37°20′00.00″ N., long. 087°50′00.00″ W.)
CREEP, OH | FIX | (Lat. 39°55′15.28″ N., long. 084°18′31.41″ W.)
KLYNE, OH | WP | (Lat. 40°41′54.46″ N., long. 083°18′44.19″ W.)
DUTSH, OH | FIX | (Lat. 41°08′26.35″ N., long. 082°33′12.68″ W.)
WWSHR, OH | WP | (Lat. 41°20′34.09″ N., long. 082°03′05.76″ W.)
DORET, OH | FIX | (Lat. 41°48′05.90″ N., long. 080°35′04.64″ W.)
Jamestown, NY (JHW) | VOR/DME | (Lat. 42°11′18.99″ N., long. 079°07′16.70″ W.)
HANKK, NY | FIX | (Lat. 42°53′41.82″ N., long. 077°09′15.21″ W.)
GONZZ, NY | WP | (Lat. 43°05′22.00″ N., long. 076°41′12.00″ W.)
KRAZZ, NY | WP | (Lat. 43°25′00.00″ N., long. 074°18′00.00″ W.)
NIPPY, NY | FIX | (Lat. 43°41′23.08″ N., long. 073°58′06.74″ W.)
CABCI, VT | WP | (Lat. 44°49′19.94″ N., long. 071°42′55.14″ W.)
EBONY, ME | FIX | (Lat. 44°54′08.68″ N., long. 067°09′23.65″ W.)
DUNOM, ME | WP | (Lat. 44°54′06.95″ N., long. 067°00′00.00″ W.)
DUVOK, Canada | WP | (Lat. 44°55′37.33″ N., long. 065°17′11.66″ W.)
Excluding the portion within Canada
* * * * * * *
Q-39 CLAWD, NC to WISTA, WV (Amended)
CLAWD, NC | WP | (Lat. 36°25′08.98″ N., long. 081°08′49.75″ W.)
WISTA, WV | WP | (Lat. 38°17′00.52″ N., long. 081°27′46.55″ W.)
* * * * * * *
Q-67 SMTTH, TN to COLTZ, OH (Amended)
SMTTH, TN | WP | (Lat. 35°54′41.57″ N., long. 084°00′19.74″ W.)
CEMEX, KY | WP | (Lat. 36°45′44.94″ N., long. 083°23′33.58″ W.)
IBATE, KY | WP | (Lat. 36°59′12.36″ N., long. 083°13′40.36″ W.)
TONIO, KY | FIX | (Lat. 37°15′15.20″ N., long. 083°01′47.53″ W.)
JONEN, KY | WP | (Lat. 37°59′08.91″ N., long. 082°32′46.19″ W.)
COLTZ, OH | FIX | (Lat. 40°29′31.82″ N., long. 082°18′20.39″ W.)
* * * * * * *
Q-69 BLANN, SC to RICCS, WV (Amended)
BLAAN, SC | WP | (Lat. 33°51′09.38″ N., long. 080°53′32.78″ W.)
RYCKI, NC | WP | (Lat. 36°24′43.05″ N., long. 080°25′07.50″ W.)
LUNDD, VA | WP | (Lat. 36°44′22.38″ N., long. 080°21′07.11″ W.)
ILLSA, VA | WP | (Lat. 37°38′55.85″ N., long. 080°13′18.44″ W.)
EWESS, WV | WP | (Lat. 38°21′50.31″ N., long. 080°06′52.03″ W.)
RICCS, WV | FIX | (Lat. 38°55′14.65″ N., long. 080°05′01.68″ W.)
HQ-71 BOBBD, TN to Philipsburg, PA (PSB) (Amended)
BOBBD, TN | WP | (Lat. 35°47′57.59″ N., long. 083°51′33.90″ W.)
ATUME, KY | WP | (Lat. 36°57′13.65″ N., long. 083°03′24.36″ W.)
HAPKI, KY | WP | (Lat. 37°04′55.73″ N., long. 082°51′02.62″ W.)
KONGO, KY | FIX | (Lat. 37°30′19.46″ N., long. 082°08′12.56″ W.)
WISTA, WV | WP | (Lat. 38°17′00.52″ N., long. 081°27′46.55″ W.)
GEFFS, WV | FIX | (Lat. 39°00′49.86″ N., long. 080°48′49.85″ W.)
EMNEM, WV | WP | (Lat. 39°31′27.12″ N., long. 080°04′28.21″ W.)
PSYKO, PA | WP | (Lat. 40°08′37.00″ N., long. 079°09′13.00″ W.)
Philipsburg, PA (PSB) | VORTAC | (Lat. 40°54′58.53″ N., long. 077°59′33.78″ W.)
* * * * * * *
Q-82 WWSHR, OH to PONCT, NY (New)
WWSHR, OH | WP | (Lat. 41°20′34.09″ N., long. 082°03′05.76″ W.)
DORET, OH | FIX | (Lat. 41°48′05.90″ N., long. 080°35′04.64″ W.)
Jamestown, NY (JHW) | VOR/DME | (Lat. 42°11′18.99″ N., long. 079°07′16.70″ W.)
WAYLA, NY | FIX | (Lat. 42°20′58.54″ N., long. 077°48′57.18″ W.)
VIEEW, NY | FIX | (Lat. 42°26′22.07″ N., long. 077°01′33.30″ W.)
MEMMS, NY | FIX | (Lat. 42°30′59.71″ N., long. 076°18′15.43″ W.)
LOXXE, NY | FIX | (Lat. 42°34′29.55″ N., long. 075°43′33.49″ W.)
PONCT, NY | WP | (Lat. 42°44′50.20″ N., long. 073°48′11.50″ W.)
Q-84 Jamestown, NY (JHW) to Cambridge, NY (CAM) (New)
Jamestown, NY (JHW) | VOR/DME | (Lat. 42°11′18.99″ N., long. 079°07′16.70″ W.)
AUDIL, NY | FIX | (Lat. 42°52′18.74″ N., long. 076°26′35.07″ W.)
PUPPY, NY | FIX | (Lat. 43°03′26.46″ N., long. 075°17′39.29″ W.)
PAYGE, NY | FIX | (Lat. 43°00′50.48″ N., long. 074°15′12.76″ W.)
Cambridge, NY (CAM) | VOR/DME | (Lat. 42°59′39.40″ N., long. 073°20′38.50″ W.)
Q-103 Pulaski, VA (PSK) to AIRRA, PA (New)
Pulaski, VA (PSK) | VORTAC | (Lat. 37°05′15.74″ N., long. 080°42′46.44″ W.)
ASBUR, WV | FIX | (Lat. 37°49′24.41″ N., long. 080°27′51.44″ W.)
OAKLE, WV | FIX | (Lat. 38°07′13.80″ N., long. 080°21′44.84″ W.)
PERRI, WV | FIX | (Lat. 38°17′50.49″ N., long. 080°18′05.11″ W.)
PERKS, WV | FIX | (Lat. 38°39′40.84″ N., long. 080°10′29.36″ W.)
RICCS, WV | FIX | (Lat. 38°55′14.65″ N., long. 080°05′01.68″ W.)
EMNEM, WV | WP | (Lat. 39°31′27.12″ N., long. 080°04′28.21″ W.)
AIRRA, PA | WP | (Lat. 41°06′16.48″ N., long. 080°03′48.73″ W.)
* * * * * * *
Q-138 Williams, CA (ILA) to Sault Ste Marie, MI (SSM) (Amended)
Williams, CA (ILA) | VORTAC | (Lat. 39°04′16.13″ N., long. 122°01′38.08″ W.)
FIMUV, CA | WP | (Lat. 39°49′05.18″ N., long. 120°11′16.65″ W.)
JENSA, NV | WP | (Lat. 40°11′36.00″ N., long. 119°13′27.00″ W.)
PUHGI, NV | WP | (Lat. 40°47′37.81″ N., long. 117°45′32.46″ W.)
ROOHZ, NV | WP | (Lat. 41°14′12.31″ N., long. 116°12′58.14″ W.)
PARZZ, NV | WP | (Lat. 41°36′14.64″ N., long. 115°02′09.69″ W.)
UROCO, WY | WP | (Lat. 42°51′52.20″ N., long. 110°50′25.10″ W.)
RICCO, WY | WP | (Lat. 43°48′29.14″ N., long. 107°02′30.21″ W.)
MOTLY, SD | WP | (Lat. 44°45′50.43″ N., long. 102°25′43.24″ W.)
DKOTA, SD | WP | (Lat. 45°22′17.00″ N., long. 097°37′27.00″ W.)
WELOK, MN | WP | (Lat. 45°41′26.32″ N., long. 094°15′28.74″ W.)
CESNA, WI | WP | (Lat. 45°52′14.00″ N., long. 092°10′59.00″ W.)
GUUME, WI | WP | (Lat. 45°55′07.51″ N., long. 091°40′55.80″ W.)
SNARG, WI | WP | (Lat. 45°58′52.00″ N., long. 091°02′16.00″ W.)
Sault Ste Marie, MI (SSM) | VOR/DME | (Lat. 46°24′43.60″ N., long. 084°18′53.54″ W.)
Q-140 WOBED, WA to YODAA, NY (Amended)
WOBED, WA | WP | (Lat. 48°36′01.07″ N., long. 122°49′46.52″ W.)
GETNG, WA | WP | (Lat. 48°25′30.57″ N., long. 119°31′38.98″ W.)
CORDU, ID | FIX | (Lat. 48°10′46.41″ N., long. 116°40′21.84″ W.)
PETIY, MT | WP | (Lat. 47°58′46.55″ N., long. 114°36′20.31″ W.)
CHOTE, MT | FIX | (Lat. 47°39′56.68″ N., long. 112°09′38.13″ W.)
LEWIT, MT | WP | (Lat. 47°23′00.21″ N., long. 110°08′44.78″ W.)
SAYOR, MT | FIX | (Lat. 47°13′58.34″ N., long. 104°58′39.28″ W.)
WILTN, ND | FIX | (Lat. 47°04′58.09″ N., long. 100°47′43.84″ W.)
TTAIL, MN | WP | (Lat. 46°41′28.00″ N., long. 096°41′09.00″ W.)
CESNA, WI | WP | (Lat. 45°52′14.00″ N., long. 092°10′59.00″ W.)
WISCN, WI | WP | (Lat. 45°18′19.45″ N., long. 089°27′53.91″ W.)
EEGEE, WI | WP | (Lat. 45°08′53.00″ N., long. 088°45′58.00″ W.)
DAYYY, MI | WP | (Lat. 44°10′10.00″ N., long. 084°22′23.00″ W.)
RUBKI, Canada | WP | (Lat. 44°14′56.00″ N., long. 082°15′25.99″ W.)
PEPLA, Canada | WP | (Lat. 43°47′51.00″ N., long. 080°01′02.00″ W.)
SIKBO, Canada | WP | (Lat. 43°39′13.00″ N., long. 079°20′57.00″ W.)
MEDAV, Canada | WP | (Lat. 43°29′19.00″ N., long. 078°45′46.00″ W.)
AHPAH, NY | WP | (Lat. 43°18′19.00″ N., long. 078°07′35.11″ W.)
HANKK, NY | FIX | (Lat. 42°53′41.82″ N., long. 077°09′15.21″ W.)
BEEPS, NY | FIX | (Lat. 42°49′13.26″ N., long. 076°59′04.84″ W.)
EXTOL, NY | FIX | (Lat. 42°39′27.69″ N., long. 076°37′06.10″ W.)
MEMMS, NY | FIX | (Lat. 42°30′59.71″ N., long. 076°18′15.43″ W.)
KODEY, NY | FIX | (Lat. 42°16′47.53″ N., long. 075°47′04.00″ W.)
ARKKK, NY | FIX | (Lat. 42°03′48.52″ N., long. 075°19′00.41″ W.)
RODYY, NY | WP | (Lat. 41°52′25.85″ N., long. 074°35′49.39″ W.)
YODAA, NY | FIX | (Lat. 41°43′21.19″ N., long. 074°01′52.76″ W.)
Excluding the airspace within Canada
* * * * * * *
Q-145 KONGO, KY to FOXEE, PA (New)
KONGO, KY | FIX | (Lat. 37°30′19.46″ N., long. 082°08′12.56″ W.)
Charleston, WV (HVQ) | VORTAC | (Lat. 38°20′58.84″ N., long. 081°46′11.68″ W.)
CLNTN, OH | WP | (Lat. 39°34′02.19″ N., long. 081°14′31.33″ W.)
FOXEE, PA | WP | (Lat. 41°11′37.87″ N., long. 080°29′44.09″ W.)
Q-438 RUBYY, MI to RAAKK, NY (Amended)
RUBYY, MI | WP | (Lat. 43°01′03.79″ N., long. 084°35′16.22″ W.)
BERYS, MI | WP | (Lat. 42°54′33.97″ N., long. 083°17′59.75″ W.)
TWIGS, MI | WP | (Lat. 42°48′34.10″ N., long. 082°33′10.30″ W.)
JAAJA, Canada | WP | (Lat. 42°40′00.00″ N., long. 081°16′00.00″ W.)
ICHOL, Canada | WP | (Lat. 42°38′31.46″ N., long. 080°30′13.99″ W.)
FARGN, Canada | WP | (Lat. 42°36′42.19″ N., long. 079°47′18.42″ W.)
RAAKK, NY | WP | (Lat. 42°23′59.00″ N., long. 078°54′39.00″ W.)
Excluding the airspace within Canada
Q-440 HUFFR, MN to RAAKK, NY (Amended)
HUFFR, MN | WP | (Lat. 45°08′48.63″ N., long. 093°29′29.66″ W.)
IDIOM, WI | WP | (Lat. 44°30′18.00″ N., long. 088°17′57.00″ W.)
DEANI, MI | FIX | (Lat. 43°43′07.35″ N., long. 085°46′29.20″ W.)
SLLAP, MI | WP | (Lat. 43°27′00.30″ N., long. 084°56′19.79″ W.)
BERYS, MI | WP | (Lat. 42°54′33.97″ N., long. 083°17′59.75″ W.)
TWIGS, MI | WP | (Lat. 42°48′34.10″ N., long. 082°33′10.30″ W.)
JAAJA, Canada | WP | (Lat. 42°40′00.00″ N., long. 081°16′00.00″ W.)
ICHOL, Canada | WP | (Lat. 42°38′31.46″ N., long. 080°30′13.99″ W.)
FARGN, Canada | WP | (Lat. 42°36′42.19″ N., long. 079°47′18.42″ W.)
RAAKK, NY | WP | (Lat. 42°23′59.00″ N., long. 078°54′39.00″ W.)
Excluding the airspace within Canada

* * * * *

Q-501 (Removed)

Q-502 (Removed)

Q-504 (Removed)

Q-505 (Removed)

Paragraph 2007 Canadian Area Navigation Routes (New)

Q-806 MEKSO, Canada to VOGET, Canada (New)
MEKSO, Canada | WP | (Lat. 45°47′21.10″ N., long. 070°25′37.90″ W.)
Millinocket, ME (MLT) | VOR/DME | (Lat. 45°35′12.20″ N., long. 068°30′55.70″ W.)
CANME, ME | WP | (Lat. 45°29′16.29″ N., long. 067°37′16.80″ W.)
VOGET, Canada | WP | (Lat. 45°00′34.00″ N., long. 063°58′32.00″ W.)
Excluding the airspace within Canada
Q-812 TIMMR, ND to GAYEL, NY (New)
TIMMR, ND | FIX | (Lat. 46°22′49.49″ N., long. 100°54′29.80″ W.)
WELOK, MN | WP | (Lat. 45°41′26.32″ N., long. 094°15′28.74″ W.)
CEWDA, WI | WP | (Lat. 44°48′32.00″ N., long. 088°33′00.00″ W.)
ZOHAN, MI | WP | (Lat. 43°55′57.00″ N., long. 084°23′09.00″ W.)
NOSIK, Canada | WP | (Lat. 43°59′00.00″ N., long. 082°11′52.30″ W.)
AGDOX, Canada | WP | (Lat. 43°17′01.71″ N., long. 079°05′29.29″ W.)
KELTI, NY | WP | (Lat. 43°16′57.00″ N., long. 078°56′00.00″ W.)
AHPAH, NY | WP | (Lat. 43°18′19.00″ N., long. 078°07′35.11″ W.)
GOATR, NY | WP | (Lat. 43°17′26.08″ N., long. 076°39′07.75″ W.)
Syracuse, NY (SYR) | VORTAC | (Lat. 43°09′37.87″ N., long. 076°12′16.41″ W.)
FABEN, NY | FIX | (Lat. 42°51′12.04″ N., long. 075°57′07.91″ W.)
LOXXE, NY | FIX | (Lat. 42°34′29.55″ N., long. 075°43′33.49″ W.)
ARKKK, NY | FIX | (Lat. 42°03′48.52″ N., long. 075°19′00.41″ W.)
STOMP, NY | FIX | (Lat. 41°35′46.78″ N., long. 074°47′47.79″ W.)
MSLIN, NY | FIX | (Lat. 41°29′30.82″ N., long. 074°33′14.28″ W.)
GAYEL, NY | FIX | (Lat. 41°24′24.09″ N., long. 074°21′25.75″ W.)
Excluding the airspace within Canada
Q-816 HOCKE, MI to HANAA, NY (New)
HOCKE, MI | WP | (Lat. 43°15′43.38″ N., long. 082°42′38.27″ W.)
OMRAK, Canada | WP | (Lat. 43°16′06.00″ N., long. 082°16′25.00″ W.)
AGDOX, Canada | WP | (Lat. 43°17′01.71″ N., long. 079°05′29.29″ W.)
KELTI, NY | WP | (Lat. 43°16′57.00″ N., long. 078°56′00.00″ W.)
AHPAH, NY | WP | (Lat. 43°18′19.00″ N., long. 078°07′35.11″ W.)
GOATR, NY | WP | (Lat. 43°17′26.08″ N., long. 076°39′07.75″ W.)
ARNII, NY | WP | (Lat. 43°14′59.92″ N., long. 074°20′00.14″ W.)
HANAA, NY | WP | (Lat. 43°11′52.06″ N., long. 073°36′46.17″ W.)
Excluding the airspace within Canada
Q-818 Flint, MI (FNT) to GAYEL, NY (New)
Flint, MI (FNT) | VORTAC | (Lat. 42°58′00.38″ N., long. 083°44′49.08″ W.)
TANKO, Canada | WP | (Lat. 43°01′32.00″ N., long. 082°22′43.00″ W.)
KITOK, Canada | WP | (Lat. 43°02′30.00″ N., long. 081°55′34.00″ W.)
DERLO, Canada | WP | (Lat. 43°03′59.00″ N., long. 081°05′43.00″ W.)
IKNAV, Canada | WP | (Lat. 42°57′43.00″ N., long. 078°59′04.00″ W.)
WOZEE, NY | WP | (Lat. 42°56′01.65″ N., long. 078°44′19.64″ W.)
KELIE, NY | FIX | (Lat. 42°39′37.32″ N., long. 077°44′41.05″ W.)
VIEEW, NY | FIX | (Lat. 42°26′22.07″ N., long. 077°01′33.30″ W.)
Excluding the airspace within Canada
Binghampton, NY (CFB) | VORTAC | (Lat. 42°09′26.96″ N., long. 076°08′11.30″ W.)
BUFFY, PA | FIX | (Lat. 41°56′27.98″ N., long. 075°36′45.35″ W.)
STOMP, NY | FIX | (Lat. 41°35′46.78″ N., long. 074°47′47.79″ W.)
MSLIN, NY | FIX | (Lat. 41°29′30.82″ N., long. 074°33′14.28″ W.)
GAYEL, NY | FIX | (Lat. 41°24′24.09″ N., long. 074°21′25.75″ W.)
Excluding the airspace within Canada
Q-822 Flint, MI (FNT) to TANGU, Canada (New)
Flint, MI (FNT) | VORTAC | (Lat. 42°58′00.38″ N., long. 083°44′49.08″ W.)
TANKO, Canada | WP | (Lat. 43°01′32.00″ N., long. 082°22′43.00″ W.)
KITOK, Canada | WP | (Lat. 43°02′30.00″ N., long. 081°55′34.00″ W.)
DERLO, Canada | WP | (Lat. 43°03′59.00″ N., long. 081°05′43.00″ W.)
HOZIR, NY | WP | (Lat. 43°06′03.59″ N., long. 079°02′05.27″ W.)
GONZZ, NY | WP | (Lat. 43°05′22.00″ N., long. 076°41′12.00″ W.)
PUPPY, NY | FIX | (Lat. 43°03′26.46″ N., long. 075°17′39.29″ W.)
PAYGE, NY | IX | (Lat. 43°00′50.48″ N., long. 074°15′12.76″ W.)
Cambridge, NY (CAM) | VOR/DME | (Lat. 42°59′39.44″ N., long. 073°20′38.47″ W.)
Kennebunk, ME (ENE) | VOR/DME | (Lat. 43°25′32.42″ N., long. 070°36′48.69″ W.)
AJJAY, ME | WP | (Lat. 43°43′40.55″ N., long. 069°36′08.22″ W.)
ALLEX, ME | WP | (Lat. 44°25′00.00″ N., long. 067°00′00.00″ W.)
TANGU, Canada | WP | (Lat. 44°50′58.00″ N., long. 063°58′43.00″ W.)
Excluding the airspace within Canada
Q-824 Flint, MI (FNT) to TAGUM, Canada (New)
Flint, MI (FNT) | VORTAC | (Lat. 42°58′00.38″ N., long. 083°44′49.08″ W.)
HOCKE, MI | WP | (Lat. 43°15′43.38″ N., long. 082°42′38.27″ W.)
TAGUM, Canada | WP | (Lat. 43°28′47.00″ N., long. 082°10′37.00″ W.)
Excluding the airspace within Canada
Q-844 VIBRU, Canada to Syracuse, NY (SYR) (New)
VIBRU, Canada | WP | (Lat. 44°20′54.20″ N., long. 076°01′16.10″ W.)
Syracuse, NY (SYR) | VORTAC | (Lat. 43°09′37.87″ N., long. 076°12′16.41″ W.)
Excluding the airspace within Canada
Q-848 SLLAP, MI to KARIT, Canada (New)
SLLAP, MI | WP | (Lat. 43°27′00.30″ N., long. 084°56′19.79″ W.)
HHIPP, MI | WP | (Lat. 43°40′33.00″ N., long. 082°48′58.00″ W.)
KARIT, Canada | WP | (Lat. 43°43′23.00″ N., long. 082°08′40.00″ W.)
Excluding the airspace within Canada
Q-905 HOCKE, MI to SIKBO, Canada (New)
HOCKE, MI | WP | (Lat. 43°15′43.38″ N., long. 082°42′38.27″ W.)
SIKBO, Canada | WP | (Lat. 43°39′13.00″ N., long. 079°20′57.00″ W.)
Excluding the airspace within Canada
Q-907 POSTS, MI to MIILS, Canada (New)
POSTS, MI | FIX | (Lat. 42°18′00.00″ N., long. 085°02′00.00″ W.)
PADDE, MI | WP | (Lat. 42°17′09.00″ N., long. 084°28′28.00″ W.)
Salem, MI (SVM) | VORTAC | (Lat. 42°24′31.09″ N., long. 083°35′38.05″ W.)
DERLO, Canada | WP | (Lat. 43°03′59.00″ N., long. 081°05′43.00″ W.)
SIKBO, Canada | WP | (Lat. 43°39′13.00″ N., long. 079°20′57.00″ W.)
AGNOB, Canada | FIX | (Lat. 44°12′03.30″ N., long. 077°30′07.20″ W.)
LORKA, Canada | FIX | (Lat. 44°46′08.70″ N., long. 076°12′59.90″ W.)
ATENE, ME | FIX | (Lat. 46°14′04.20″ N., long. 070°16′21.00″ W.)
MIILS, Canada | WP | (Lat. 46°52′42.00″ N., long. 067°02′09.00″ W.)
Excluding the airspace within Canada
Q-913 RAKAM, Canada to TOPPS, ME (New)
RAKAM, Canada | WP | (Lat. 44°01′15.05″ N., long. 076°29′44.15″ W.)
CABCI, VT | WP | (Lat. 44°49′19.94″ N., long. 071°42′55.14″ W.)
TOPPS, ME | FIX | (Lat. 45°20′24.65″ N., long. 067°44′19.11″ W.)
Excluding the airspace within Canada
Q-917 Sault Ste Marie, MI (SSM) to WOZEE, NY (New)
Sault Ste Marie, MI (SSM) | VOR/DME | (Lat. 46°24′43.60″ N., long. 084°18′53.54″ W.)
ULUTO, Canada | WP | (Lat. 46°18′16.00″ N., long. 084°05′41.00″ W.)
VIGLO, Canada | WP | (Lat. 45°23′28.00″ N., long. 082°25′11.00″ W.)
SASUT, Canada | WP | (Lat. 44°39′59.00″ N., long. 081°17′47.00″ W.)
PEPLA, Canada | WP | (Lat. 43°47′51.00″ N., long. 080°01′02.00″ W.)
HOZIR, NY | WP | (Lat. 43°06′03.59″ N., long. 079°02′05.27″ W.)
WOZEE, NY | WP | (Lat. 42°56′01.65″ N., long. 078°44′19.64″ W.)
Excluding the airspace within Canada
Q-923 HOCKE, MI to KARIT, Canada (New)
HOCKE, MI | WP | (Lat. 43°15′43.38″ N., long. 082°42′38.27″ W.)
KARIT, Canada | WP | (Lat. 43°43′23.00″ N., long. 082°08′40.00″ W.)
Excluding the airspace within Canada
Q-935 MONEE, MI to Boston, MA (BOS) (New)
MONEE, MI | FIX | (Lat. 43°14′25.80″ N., long. 084°27′50.95″ W.)
HOCKE, MI | WP | (Lat. 43°15′43.38″ N., long. 082°42′38.27″ W.)
OMRAK, Canada | WP | (Lat. 43°16′06.00″ N., long. 082°16′25.00″ W.)
DERLO, Canada | WP | (Lat. 43°03′59.00″ N., long. 081°05′43.00″ W.)
IKNAV, Canada | WP | (Lat. 42°57′43.00″ N., long. 078°59′04.00″ W.)
WOZEE, NY | WP | (Lat. 42°56′01.65″ N., long. 078°44′19.64″ W.)
HANKK, NY | FIX | (Lat. 42°53′41.82″ N., long. 077°09′15.21″ W.)
JOSSY, NY | FIX | (Lat. 42°53′29.93″ N., long. 077°02′36.80″ W.)
AUDIL, NY | FIX | (Lat. 42°52′18.74″ N., long. 076°26′35.07″ W.)
FABEN, NY | FIX | (Lat. 42°51′12.04″ N., long. 075°57′07.91″ W.)
PONCT, NY | WP | (Lat. 42°44′50.20″ N., long. 073°48′11.50″ W.)
Gardner, MA (GDM) | VOR/DME | (Lat. 42°32′45.32″ N., long. 072°03′29.48″ W.)
Boston, MA (BOS) | VOR/DME | (Lat. 42°21′26.82″ N., long. 070°59′22.37″ W.)
Excluding the airspace within Canada
Q-937 TULEG, Canada to GASSY, NY (New)
TULEG, Canada | FIX | (Lat. 43°43′54.84″ N., long. 076°43′09.82″ W.)
WAYGO, NY | WP | (Lat. 43°25′00.00″ N., long. 075°55′00.00″ W.)
GASSY, NY | FIX | (Lat. 43°24′53.26″ N., long. 073°57′50.84″ W.)
Excluding the airspace within Canada
Q-947 OMIXI, Canada to DUVOK, Canada (New)
OMIXI, Canada | WP | (Lat. 45°25′56.00″ N., long. 072°39′29.00″ W.)
REVEN, ME | WP | (Lat. 45°33′09.70″ N., long. 070°42′01.90″ W.)
TOPPS, ME | FIX | (Lat. 45°20′24.65″ N., long. 067°44′19.11″ W.)
CUZWA, ME | WP | (Lat. 45°17′48.49″ N., long. 067°27′58.22″ W.)
DUVOK, Canada | WP | (Lat. 44°55′37.33″ N., long. 065°17′11.66″ W.)
Excluding the airspace within Canada
Q-951 POSTS, MI to PUXOP, Canada (New)
POSTS, MI | FIX | (Lat. 42°18′00.00″ N., long. 085°02′00.00″ W.)
PADDE, MI | WP | (Lat. 42°17′09.00″ N., long. 084°28′28.00″ W.)
Salem, MI (SVM) | VORTAC | (Lat. 42°24′31.09″ N., long. 083°35′38.05″ W.)
DERLO, Canada | WP | (Lat. 43°03′59.00″ N., long. 081°05′43.00″ W.)
SIKBO, Canada | WP | (Lat. 43°39′13.00″ N., long. 079°20′57.00″ W.)
SANIN, Canada | WP | (Lat. 44°04′41.00″ N., long. 077°25′55.00″ W.)
OLABA, Canada | WP | (Lat. 44°28′35.00″ N., long. 076°12′12.00″ W.)
ALONI, Canada | WP | (Lat. 44°38′54.00″ N., long. 075°39′10.00″ W.)
DAVDA, NY | WP | (Lat. 44°43′27.00″ N., long. 075°22′28.20″ W.)
SAVAL, NY | WP | (Lat. 44°54′15.00″ N., long. 074°42′01.20″ W.)
TALNO, NY | WP | (Lat. 45°00′02.00″ N., long. 074°19′52.00″ W.)
RABIK, Canada | WP | (Lat. 45°17′56.00″ N., long. 072°36′37.00″ W.)
ANTOV, Canada | WP | (Lat. 45°22′35.00″ N., long. 071°02′15.00″ W.)
DANOL, ME | FIX | (Lat. 45°41′54.22″ N., long. 067°47′16.00″ W.)
PUXOP, Canada | WP | (Lat. 45°56′41.00″ N., long. 066°26′24.00″ W.)
Excluding the airspace within Canada

Paragraph 6010(a) Domestic VOR Federal Airways

* * * * *

V-84 (Amended)

From Northbrook, IL; Pullman, MI; Lansing, MI; to Flint, MI. From Buffalo, NY; Genese, NY; INT Geneseo 091° and Syracuse, NY, 240° radials; to Syracuse.

* * * * *

V-91 (Amended)

From INT Calverton, NY, 180° and Hampton, NY, 223° radials; Calverton; Bridgeport, CT; Albany, NY; Glens Falls, NY; INT Glens Falls 032° and Burlington, VT, 187° radials; to Burlington.

* * * * *

V-104 (Amended)

From Burlington, VT; Montpelier, VT; Berlin, NH; to Bangor, ME.

* * * * *

V-203 (Amended)

From INT Chester, MA, 266° and Albany, NY, 134° radials; Albany; Saranac Lake, NY; to Massena, NY.

* * * * *

V-337 (Removed)

* * * * *

V-423 (Amended)

From Williamsport, PA; Binghamton, NY; Ithaca, NY; to Syracuse, NY.

* * * * *

Paragraph 6013 Canadian Area Navigation Routes (New)

T-608 WOZEE, NY to HOCKE, MI (New)
WOZEE, NY | WP | (Lat. 42°56′01.65″ N., long. 078°44′19.64″ W.)
BIMRO, Canada | WP | (Lat. 43°01′41.00″ N., long. 080°19′00.00″ W.)
DERLO, Canada | WP | (Lat. 43°03′59.00″ N., long. 081°05′43.00″ W.)
HAVOK, Canada | WP | (Lat. 43°01′15.00″ N., long. 081°36′12.00″ W.)
BOSEP, Canada | WP | (Lat. 43°06′16.00″ N., long. 082°00′30.00″ W.)
KATNO, Canada | WP | (Lat. 43°10′34.00″ N., long. 082°19′32.00″ W.)
HOCKE, MI | WP | (Lat. 43°15′43.38″ N., long. 082°42′38.27″ W.)
Excluding the airspace within Canada
T-616 Flint, MI (FNT) to LEPOS, Canada (New)
Flint, MI (FNT) | VORTAC | (Lat. 42°58′00.40″ N., long. 083°44′49.10″ W.)
URSSA, MI | WP | (Lat. 43°02′46.48″ N., long. 083°28′20.09″ W.)
HOCKE, MI | WP | (Lat. 43°15′43.38″ N., long. 082°42′38.27″ W.)
LEPOS, Canada | WP | (Lat. 43°35′01.00″ N., long. 081°38′48.00″ W.)
Excluding the airspace within Canada
T-781 Flint, MI (FNT) to AXOBU, Canada (New)
Flint, MI (FNT) | VORTAC | (Lat. 42°58′00.40″ N., long. 083°44′49.10″ W.)
KATTY, MI | WP | (Lat. 42°57′50.59″ N., long. 083°30′50.76″ W.)
HANKY, MI | FIX | (Lat. 42°57′43.51″ N., long. 083°21′59.93″ W.)
ADRIE, MI | FIX | (Lat. 42°57′29.80″ N., long. 083°06′49.84″ W.)
MARGN, MI | FIX | (Lat. 42°56′59.18″ N., long. 082°38′49.14″ W.)
BLUEZ, MI | FIX | (Lat. 42°56′49.98″ N., long. 082°31′36.44″ W.)
AXOBU, Canada | FIX | (Lat. 42°56′39.50″ N., long. 082°23′42.30″ W.)
Excluding the airspace within Canada

Issued in Washington, DC, on June 17, 2014.
Gary A. Norek,
Manager, Airspace Policy & Regulations Group.

[FR Doc. 2014-14759 Filed 6-23-14; 8:45 am]

BILLING CODE 4910-13-P